NUCLEAR REGULATORY COMMISSION

[Docket Nos. 50-338 and 50-339; NRC-2020-0201]

Virginia Electric and Power Company; North Anna Power Station, Unit Nos. 1 and 2; Final Site-Specific Environmental Impact Statement

AGENCY: Nuclear Regulatory Commission.

ACTION: Notice; issuance.

SUMMARY: The U.S. Nuclear Regulatory Commission (NRC) has published a final site-specific environmental impact statement (EIS), issued as NUREG-1437, Supplement 7a, Second Renewal, “Site-Specific Environmental Impact Statement for License Renewal of Nuclear Plants Regarding Subsequent License Renewal for North Anna Power Station Units 1 and 2, Final Report.” This EIS evaluates, on a site-specific basis, the environmental impacts of subsequent license renewal of Facility Operating License Nos. NPF-4 and NPF-7 for an additional 20 years of operation for North Anna Power Station (NAPS), Unit Nos. 1 and 2, respectively. NAPS is located in Louisa County, Virginia. Alternatives to the proposed action of subsequent license renewal for NAPS include the no-action alternative and reasonable replacement power alternatives.

DATES: NUREG-1437, Supplement 7a, Second Renewal is available as of July 22, 2024.

ADDRESSES: Please refer to Docket ID NRC-2020-0201 when contacting the NRC about the availability of information regarding this document. You may obtain publicly available information related to this document using any of the following methods:

• Federal Rulemaking Website: Go to https://www.regulations.gov and search for Docket ID NRC-2020-0201. Address questions about Docket IDs in Regulations.gov to Stacy Schumann; telephone: 301-415-0624; email: Stacy.Schumann@nrc.gov. For technical questions contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 7a, Second Renewal is available in ADAMS under Accession No. ML24204A104.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the final EIS will be available for public inspection at the Louisa County Library, 881 Davis Highway, Mineral, VA 23117. The NRC staff encourages those addressees with mailing addresses listed in Chapter 7 of the final EIS, to visit the NRC's NUREG-Series Publication website (https://www.nrc.gov/reading-rm/doc-collections/nuregs/staff.html) or the NAPS project website (https://www.nrc.gov/reactors/operating/licensing/renewal/applications/north-anna-1-2-subsequent.html) to download an electronic copy. You may also obtain an electronic copy by contacting Tam Tran via email at Tam.Tran@nrc.gov.

FOR FURTHER INFORMATION CONTACT: Tam Tran, Office of Nuclear Material Safety and Safeguards, U.S. Nuclear Regulatory Commission, Washington, DC 20555-0001; telephone: 301-415-3617; email: Tam.Tran@nrc.gov.

SUPPLEMENTARY INFORMATION:

I. Background

In accordance with section 51.118 of title 10 of the Code of Federal Regulations (10 CFR), “Final environmental impact statement—notice of availability,” the NRC is making available for public inspection NUREG-1437, Supplement 7a, Second Renewal, regarding the subsequent license renewal of Virginia Electric and Power Company's (Dominion), renewed Facility Operating License Nos. NPF-4 and NPF-7 for an additional 20 years of operation for NAPS. A notice of availability of the site-specific draft EIS (DEIS) (NUREG-1437, Supplement 7a, Second Renewal) was published in the Federal Register on January 8, 2024, (89 FR 960) by the NRC, and on January 5, 2024 (89 FR 781) as amended January 19, 2024 (89 FR 3653), by the Environmental Protection Agency. The public comment period on the site-specific DEIS (NUREG-1437, Supplement 7a, Second Renewal) ended on February 22, 2024, and the comments received on the site-specific DEIS are addressed in the final EIS (NUREG-1437, Supplement 7a, Second Renewal).

II. Discussion

The site-specific draft EIS (NUREG-1437, Supplement 7a, Second Renewal) superseded a draft Supplemental EIS (SEIS) (NUREG-1437, Supplement 7, Second Renewal), that the NRC had issued for public comment on August 25, 2021 (86 FR 47525). The site-specific final EIS addresses the comments received on both the site-specific draft EIS (NUREG-1437, Supplement 7a, Second Renewal) and the previous draft SEIS (NUREG-1437, Supplement 7, Second Renewal). As discussed in Chapter 4 of the final EIS (NUREG-1437, Supplement 7a, Second Renewal), the NRC staff has determined that the adverse environmental impacts of subsequent license renewal for NAPS for an additional 20 years beyond the expiration dates of the initial renewed licenses are not so great that preserving the option of subsequent license renewal for energy-planning decisionmakers would be unreasonable. This recommendation is based on: (1) information provided in the environmental report, as supplemented, and other documents submitted by Dominion; (2) consultation with Federal, State, Tribal, and local governmental agencies; (3) the NRC staff's independent environmental review; and (4) consideration of public comments received during the scoping process, on the site-specific DEIS (NUREG-1437, Supplement 7a, Second Renewal), and on the previous draft SEIS (NUREG-1437, Supplement 7, Second Renewal).

Dated: July 26, 2024.
For the Nuclear Regulatory Commission.
John Moses,
Deputy Director, Division of Rulemaking, Environmental, and Financial Support, Office of Nuclear Material Safety, and Safeguards.

[FR Doc. 2024-16886 Filed 7-30-24; 8:45 am]

BILLING CODE 7590-01-P